DEPARTMENT OF HEALTH AND HUMAN SERVICES

Administration for Children and Families

Submission for OMB Review; Comment Request

Title: National Survey of Early Care and Education.

OMB No.: New Collection.

Description: The Administration for Children and Families (ACF), U.S. Department of Health and Human Services (HHS), is proposing a data collection activity as part of the National Survey of Early Care and Education (NSECE) which will be conducted December, 2011 through June, 2010. The objective of the NSECE is to document the nation's current need for and availability of early care and education and including school-age care (ECE/SA), and to deepen our understanding of the extent to which families' needs and preferences coordinate well with providers' offerings and constraints. The proposed collection will consist of four survey components: (1) A survey of households with children under the age of 13 for participation in a questionnaire on the need for and use of early care and education (Household Interview), (2) a survey of households with individuals providing care for children under the age of 13 in a residential setting (Home-based Provider Interview), (3) a survey of providers of care to children under 13 in a non-residential setting (Center-based Provider Interview), and (4) a survey conducted with individuals employed in center-based child care programs (Workforce Provider Interview).

These data collection efforts will provide urgently needed information about the provision of ECE/SA across the country and spanning many sectors of care providers such as community-based child care, Head Start, school-based Pre-K, family child care, family, friend and neighbor care, and after-school programs. The study will also dramatically extend the available resources for understanding how families use, seek, and cope with the ECE/SA choices that are available to them. Perhaps most significantly, the NSECE will allow the policy and research communities to merge data from families and providers at the local level—where the two actually meet.

Respondents: General population households, home-based and center-based child care providers (including public schools) serving children under 13, and selected staff members from center-based child care providers (including public schools) serving children under 13.

Instrument | Annual number of respondents | Number of responses per respondent | Average burden hours per response | Estimated annual burden hours
Household screener | 83,767 | 1 | .1 | 8,377
Household Interview | 17,512 | 1 | .75 | 13,134
Home-based Provider Interview | 11,260 | 1 | .3 | 3,378
Center-Based Provider Interview | 12,520 | 1 | .67 | 8,389
Workforce Provider Interview | 9,390 | 1 | .33 | 3,099

Estimated Total Annual Burden Hours: 36,377.

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: June 13, 2011.
Steven M. Hanmer,
Reports Clearance Officer.

[FR Doc. 2011-15169 Filed 6-20-11; 8:45 am]

BILLING CODE 4184-23-M